DEPARTMENT OF ENERGY

Federal Energy Regulatory Commission

[Docket No. RP09-809-000]

Maritimes & Northeast Pipeline, L.L.C.; Notice of Technical Conference

August 20, 2009.

Take notice that Commission Staff will convene a technical conference in the above-referenced proceeding on Friday, September 11, 2009, at 10 a.m. (EST), in a room to be designated at the offices of the Federal Energy Regulatory Commission, 888 First Street, NE., Washington, DC 20426.

On July 1, 2009, Maritimes & Northeast Pipeline, L.L.C. (Maritimes) filed revised tariff sheets to, among other things, reflect out-of-cycle changes in Maritimes' Fuel Retainage Quantity. On July 30, 2009, the Commission accepted and suspended Maritimes proposed tariff sheets revising Maritimes' fuel rate methodology and increasing its fuel charges, to become effective January 1, 2010, subject to refund and the outcome of a technical conference. During the technical conference, Commission Staff and interested persons will have the opportunity to discuss all of the issues raised by Maritimes' out-of-cycle fuel filing.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Anna Fernandez at (202) 502-6682 or e-mail Anna-Fernandez@ferc.gov.

Kimberly D. Bose,
Secretary.

[FR Doc. E9-20642 Filed 8-26-09; 8:45 am]

BILLING CODE 6717-01-P